DEPARTMENT OF TRANSPORTATION

Federal Aviation Administration

14 CFR Part 71

[Docket No. FAA-2020-1146; Airspace Docket No. 20-AEA-10]

RIN 2120-AA66

Establishment, Amendment, and Revocation of Air Traffic Service (ATS) Routes; Northeast United States

AGENCY: Federal Aviation Administration (FAA), DOT.

ACTION: Final rule.

SUMMARY: This action amends nine VOR Federal airways, removes 10 VOR Federal airways; amends four low altitude RNAV routes (T-routes), establishes seven T-routes; amends two high altitude RNAV routes (Q-route), and establishes one Q-route. This action supports the Northeast Corridor Atlantic Coast Route Project and the VOR Minimum Operational Network (VOR MON) Program to improve the efficiency of the National Airspace System (NAS) and reduce dependency on ground-based navigational systems.

DATES: Effective date 0901 UTC, June 17, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the Air Traffic Route structure in the northeastern United States to maintain the efficient flow of air traffic.

History

The FAA published a notice of proposed rulemaking for Docket No. FAA-2020-1146 in the Federal Register (86 FR 5046; January 19, 2021), modifying 11 VOR Federal airways; removing 10 VOR Federal airways; modifying four low altitude RNAV routes (T-routes); establishing seven T-routes; modifying two high altitude RNAV routes (Q-route); and establishing one Q-route. This action supports the Northeast Corridor Atlantic Coast Route Project, and the VOR Minimum Operational Network (VOR MON) Program to improve the efficiency of the NAS and reduce dependency on ground-based navigational systems. Interested parties were invited to participate in this rulemaking effort by submitting written comments on the proposal. No comments were received.

Domestic VOR Federal airways are published in paragraph 6010(a); United States area navigation routes are published in paragraph 6011; and Canadian area navigation routes are published in paragraphs 2007, and 6013; respectively, of FAA Order 7400.11E, dated July 21, 2020, and effective September 15, 2020, which is incorporated by reference in 14 CFR 71.1. The VOR Federal airways and area navigation routes listed in this document will be subsequently published in the Order.

Availability and Summary of Documents for Incorporation by Reference

This action amends FAA Order 7400.11E, Airspace Designations and Reporting Points, dated July 21, 2020 and effective September 15, 2020. FAA Order 7400.11E is publicly available as listed in the ADDRESSES section of this rule. FAA Order 7400.11E lists Class A, B, C, D, and E airspace areas, air traffic service routes, and reporting points.

Differences From the Proposal

The following editorial corrections are included in this rule:

Subsequent to the publication of the NPRM, the FAA determined that the proposed amendments to VOR Federal airways V-39 and V-93 would be delayed to a later date. This is due to a delay in the planned decommissioning date for the Keene, NH (EEN), VORTAC. Therefore, the amendments to V-39 and V-93 are removed from this rule.

Q-844: A correction to route Q-844 is added to this rule to update the description of the VIBRU waypoint (WP) to reflect its new position. The NPRM included the VIBRU update in the description of route T-634, but the same change in Q-844 was unintentionally omitted from the NPRM.

T-662: In the NPRM preamble description, the spelling of the DEPIR WP is corrected to read DEPRI WP.

T-705: The spelling of the SRACK WP is corrected to read SRNAK WP.

The above changes do not affect the alignment of the routes.

The Rule

This action amends 14 CFR part 71 by modifying nine VOR Federal airways; removing 10 VOR Federal airways; modifying four low altitude RNAV routes (T-routes); establishing seven T-routes; amending two high altitude RNAV routes (Q-route); and establishing one Q-route.

The following section describes the VOR Federal airway changes.

V-2: V-2 extends, in two parts, between Seattle, WA, and Nodine, MN; and between Buffalo, NY, and Gardner, MA. The FAA is removing the sections between Buffalo and Gardner. RNAV route T-608 (described below) replaces V-2 between Buffalo, NY, and Gardner, MA. As amended, the route extends between Seattle, WA, and Nodine, MN.

V-3: V-3 extends between Key West, FL, and Quebec, PQ, Canada. The FAA is removing the segments between the intersection of the Boston, MA, 014°, and the Pease, NH, 185° radials, and Houlton, ME. As amended, V-3 consists of two parts: between Key West, FL, and Boston, MA; and between Presque Isle, ME, and Quebec, Canada. The airspace within restricted areas R-2916, R-2934, R-2935, and the airspace within Canada is excluded.

V-14: V-14 extends, in two parts, between Chisum, NM, and Flag City, OH; and between Buffalo, NY, and Norwich, CT. This action removes the sections between Buffalo and Norwich. RNAV route T-608 (described below) replaces V-14 between Albany, NY, and Norwich, CT. As amended, V-14 extends between Chisum, NM, and Flag City, OH.

V-29: V-29 extends between Snow Hill, MD, and Massena, NY. This action removes the sections between Watertown, NY, and Massena, NY. As amended, V-29 extends between Snow Hill, MD, and Syracuse, NY.

V-106: V-106 consists of two parts: between Johnstown, PA, and the intersection of the Wilkes-Barre, PA, 037°, and the Sparta, NJ, 300° radials; and between Barnes, MA, and Kennebunk, ME. This action removes the sections between Barnes, MA, and Kennebunk, ME. The amended route extends between Johnstown, PA, and the intersection of the Wilkes-Barre, PA, 037°, and the Sparta, NJ, 300° radials.

V-145: V-145 extends between Utica, NY, and the intersection of the Watertown, NY, 005°, and the Ottawa, ON, Canada 185° radials. The FAA is removing the entire route.

V-196: V-196 extends between Utica, NY, and the intersection of the Saranac Lake, NY, 058°, and the Burlington, VT, 296° radials. The FAA is removing the entire route.

V-203: V-203 extends between the intersection of the Chester, MA, 266°, and the Albany, NY, 134° radials, and Massena, NY. The FAA is removing the entire route.

V-229: V-229 extends between Patuxent, MD, and Burlington, VT. This action removes the segments between Hartford, CT, and Burlington, VT. As amended, V-229 extends between Patuxent, MD, and Hartford, CT.

V-249: V-249 extends between Robbinsville, NJ, and Utica, NY. This action removes the segments between DeLancey, NY, and Utica, NY. The amended route extends between Robbinsville, NJ, and DeLancey, NY.

V-273: V-273 extends between the intersection of the Huguenot, NY, 134°, and the Solberg, NJ, 044° radials, and Syracuse, NY. The FAA is removing the segments between Hancock, NY, and Syracuse, NY. As amended, the route extends between the intersection of the above noted Huguenot and Solberg radials, and Hancock, NY.

V-282: V-282 extends between Saranac Lake, NY, and the intersection of the Saranac Lake, NY, 008° and the Massena, NY, 080° radials. The FAA is removing the entire route.

V-318: V-318 extends between the intersection of the Beauce, PQ, Canada, 103°, and the Quebec, PQ Canada, 047° radials, through United States airspace, to St. John, NB, Canada. The FAA is removing the entire route.

V-322: V-322 extends between Concord, NH, and the intersection of the Concord, NH, 022°, and the Augusta, ME, 265° radials. The FAA is removing the entire route.

V-352: V-352 extends between the intersection of the Beauce, PQ, Canada 085° and the Bangor, ME, 336° radials, and Houlton, ME. The FAA is removing the entire route.

V-428: V-428 extends between Georgetown, NY, and Utica, NY. The FAA is removing the entire route.

V-471: V-471 extends between Bangor, ME, and the intersection of the Houlton, ME, 085° radial, and the United States Canadian border. This action remove the segments between Millinocket, ME, and the above border intersection. As amended, the route extends between Bangor, ME, and Millinocket, ME.

V-490: V-490 extends Utica, NY, and Manchester, NH. The FAA is removing the entire route.

V-542: V-542 currently extends between Elmira, NY, and Rockdale, NY. This action removes the entire route.

The following section describes changes to U.S. low altitude RNAV routes.

T-295: T-295 extends between the LOUIE, MD, waypoint (WP), and the Bangor, ME, VORTAC. This action extends the route northeastward from Bangor, ME, to Presque Isle, ME. The Keene, NH (EEN) VORTAC is replaced by the KEYNN, NH, WP, which is located 60 feet north of the Keene VORTAC. The amended route extends between LOUIE, MD, and Presque Isle, ME.

T-314: T-314 is a new route that extends between the Barnes, MA, VORTAC, and the Kennebunk, ME, VOR/DME.

T-315: T-315 is a new route that extends between the Hartford, CT, VOR/DME and the Burlington, VT, VOR/DME.

T-316: T-316 is a new route that extends between the LAMMS, NY, WP, and the MANCH, NH, WP.

T-391: T-391 extends between the TUMPS, NY, Fix, and the SSENA, NY, WP. This action removes the TUMPS Fix and extends the route southeast from the Syracuse, NY, VORTAC, to the Hancock, NY, VOR/DME. As amended, the route extends between Hancock, NY, and SSENA, NY.

The following section describes changes to Canadian low altitude RNAV routes.

T-608: T-608 is an existing Canadian route that was extended into U.S. airspace in 2014 (79 FR 57758; September 26, 2014). It currently extends from the HOCKE, MI, WP, through Canadian airspace, and ends at the WOZEE, NY, WP. This action extends the route from the WOZEE WP eastward into U.S. airspace to the YANTC, CT, WP. The amended T-608 replaces VOR Federal airway V-2 between the WOZEE, NY, WP and the Gardner, MA (GDM), VORTAC; and replaces V-14 between the Albany, NY (ALB), VORTAC and the YANTC, CT, WP. The YANTC, CT, WP replaces the Norwich, CT (ORW), VOR/DME. The LAMMS, NY, WP replaces the Utica, NY (UCA), VORTAC. As amended, T-608 extends from the HOCKE, MI, WP, through Canadian airspace, to the WOZEE, NY, WP, and from the WOZEE WP, to the YANCT WP. The order of points listed in the route description is changed to read from “west to east” to comply with formatting requirements.

T-634: T-634 is an existing Canadian route that is being extended into U.S. airspace. The route currently ends at the VIBRU, Canada, WP (adjacent to the U.S./Canadian border). The VIBRU WP is moved 0.55 nautical miles (NM) to the south of its current position to align it with the U.S./Canada border. It is re-labeled as “VIBRU, NY.” The FAA is extending T-634 into U.S. airspace between the Syracuse, NY, VORTAC, and the VIBRU, NY, WP. The extended portion of the route replaces VOR Federal airway V-145 as described above.

T-662: T-662 is a Canadian route that is extended into U.S. airspace between the DEPRI, ME, WP, and the HULTN, ME, WP. The HULTN WP replaces the Houlton, ME, (HUL) VOR/DME. The HULTN WP is located 60 feet east of the Houlton VOR/DME. T-662 extends across Maine from the DEPRI, ME, WP to the KATAH, ME, WP, to the HULTN, ME, WP. T-662 replaces VOR Federal airway V-352 as described above.

T-698: T-698 is a Canadian route that is extended across the State of Maine from the EBGIX, ME, WP, to the HULTN, ME, WP, to the ACTON, ME, WP. The EBGIX WP is moved 1.16NM east of its current position to coincide with the U.S./Canada border in western Maine. The ACTON WP is a new point added on the U.S./Canada border to the southeast of the Houlton, ME (HUL), VOR/DME.

T-705: T-705 is an existing Canadian route that was extended into U.S. airspace, between the U.S./Canadian border, and the Utica, NY, VORTAC, in 2018 (83 FR 31855; July 10, 2018). This action extends T-705 further southward to the DANZI, NY, WP (near the Delancey, NY, VOR/DME). The Utica, NY, VORTAC, and the Saranac Lake, NY, VOR/DME are removed from the route. The new LAMMS, NY, WP replaces the Utica VORTAC, and the new SRNAC, NY, WP replaces the Saranac Lake VOR/DME in the route description. The MUTNA, Canada, WP is moved 0.79NM southward to align with the U.S./Canada border. It is re-labeled as “MUTNA, NY.” As amended, the U.S. portion of T-705 extends between the DANZI, NY, WP and MUTNA, NY, WP at the U.S./Canadian border.

T-781: T-781 is a Canadian route that was extended into U.S. airspace in 2014 (79 FR 57758; September 26, 2014). Currently, the U.S. portion of the route extends from the Flint, MI, VORTAC, eastward to the AXOBU, Canada, WP (in the vicinity of the U.S./Canadian border near Port Huron, MI). T-781 then continues eastward across Canada and terminates at the PINTE, Canada Fix (on the U.S./Canadian border). The PINTE Fix is moved 0.07 NM east to align with the U.S./Canada border and is converted to a WP. This action extends T-781 eastward from the PINTE, ME, WP to terminate at the HULTN, ME, WP. As amended, the U.S. portion of T-781 extends between the Flint, MI, VORTAC, and the AXOBU, Canada, Fix; and between the PINTE, ME, WP, and the HULTN, ME, WP.

The following section describes the changes to Canadian high altitude RNAV routes.

Q-844: Q-844 is a Canadian route that extends between the Syracuse, NY, VORTAC (SYR) and the VIBRU, Canada, WP. The VIBRU, Canada, WP is moved 0.55 NM south of its current position to coincide with the U.S./Canada border. The WP is renamed “VIBRU, NY,” and the geographic latitude/longitude is updated to reflect the new position.

Q-806: Q-806 is a Canadian route that was extended into U.S. airspace in 2014 (79 FR 57758; September 26, 2014). The U.S. portion currently extends from the MEKSO, Canada, WP, eastward through the Millinocket, ME, VOR/DME, to the CANME, ME, WP, and the VOGET, Canada, WP. Canada is realigning Q-806 by shifting the route segment from the MEKSO, Canada, WP, southward to the VINDI, Canada, WP. The VINDI WP is moved 0.13NM eastward to align with the U.S./Canada border and listed as “VINDI, ME.” Consequently, this action removes the route segment between the MEKSO WP and the Millinocket, ME, VOR/DME, and adds the segment between the VINDI, ME, WP, and the Millinocket VOR/DME. The VIGDU, Canada, WP is moved 0.50 NM westward to align with the U.S./Canada border and listed as “VIGDU, ME.” The VIGDU, ME, WP is added east of the CANME, ME, WP. As amended, the U.S. portion of Q-806 extends from the VINDI, ME, WP, eastward to the Millinocket, ME, VOR/DME, to the CANME, ME, WP, to the VIGDU, ME, WP.

Q-864: Q-864 is an existing Canadian route that is extended into U.S. airspace across northern Maine. The route currently ends at the EBGIX, Canada, WP (at the U.S./Canadian border in western Maine). This action extends the route eastward from the EBGIX WP, across the State of Maine, running north of the Millinocket, ME, VOR/DME, to the TUGUB, Canada, WP (located southeast of the Houlton, ME, VOR/DME) where it rejoins the remainder of Q-864 into Canada. The EBGIX WP is moved 1.16NM eastward to align with the U.S./Canadian border, and the TUGUB WP is moved 1.23NM westward to align with the U.S./Canada border. The amended Q-864 extends between the EBGIX, ME, WP, and the TUGUB, ME, WP.

The full descriptions of the above route changes are found in “The Amendment” section of this rule.

FAA Order 7400.11, Airspace Designations and Reporting Points, is published yearly and effective on September 15.

Regulatory Notices and Analyses

The FAA has determined that this action only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying nine VOR Federal airways; removing 10 VOR Federal airways; amending four T-routes; establishing 7 T-routes; amending two Q-routes; and establishing one Q-route, in the northeast United States, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 6010(a) Domestic VOR Federal Airways.

* * * * *

V-2 [Amended]

From Seattle, WA; Ellensburg, WA; Moses Lake, WA; Spokane, WA; Mulan Pass, ID; Missoula, MT; Helena, MT; INT Helena 119° and Livingston, MT, 322° radials; Livingston; Billings, MT; Miles City, MT; 24 miles, 90 miles 55 MSL, Dickinson, ND; 10 miles, 60 miles 38 MSL, Bismarck, ND; 14 miles, 62 miles 34 MSL, Jamestown, ND; Fargo, ND; Alexandria, MN; Gopher, MN; to Nodine, MN.

V-3 [Amended]

From Key West, FL; INT Key West 083° and Dolphin, FL, 191° radials; Dolphin; Ft. Lauderdale, FL; Palm Beach, FL; Treasure, FL; Melbourne, FL; Ormond Beach, FL; Brunswick, GA; INT Brunswick 014° and Savannah, GA, 177° radials; Savannah; INT Savannah 028° and Vance, SC, 203° radials; Vance; Florence, SC; Sandhills, SC; Raleigh-Durham, NC; INT Raleigh-Durham 016° and Flat Rock, VA, 214° radials; Flat Rock; Gordonsville, VA; INT Gordonsville 331° and Martinsburg, WV, 216° radials; Martinsburg; Westminster, MD; INT Westminster 048° and Modena, PA, 258° radials; Modena; Solberg, NJ; INT Solberg 044° and Carmel, NY, 243° radials; Carmel; Hartford, CT; INT Hartford 084° and Boston, MA, 224° radials; to Boston. From Presque Isle, ME; to Quebec, PQ, Canada. The airspace within R-2916, R-2934, R-2935, and within Canada is excluded.

* * * * *

V-14 [Amended]

From Chisum, NM; Lubbock, TX; Childress, TX; Hobart, OK; Will Rogers, OK; INT Will Rogers 052° and Tulsa, OK, 246° radials; Tulsa; Neosho, MO; Springfield, MO; Vichy, MO; INT Vichy 067° and St. Louis, MO, 225° radials; St. Louis; Vandalia, IL; Terre Haute, IN; Brickyard, IN; Muncie, IN; to Flag City, OH.

* * * * *

V-29 [Amended]

From Snow Hill, MD; Salisbury, MD; Smyrna, DE; DUPONT, DE; Modena, PA; Pottstown, PA; East Texas, PA; Wilkes-Barre, PA; Binghamton, NY; INT Binghamton 005° and Syracuse, NY, 169° radials; to Syracuse.

* * * * *

V-106 [Amended]

From Johnstown, PA; INT Johnstown 068° and Selinsgrove, PA, 259° radials; Selinsgrove; INT Selinsgrove 067° and Wilkes-Barre, PA, 237° radials; Wilkes-Barre; to INT Wilkes-Barre 037° and Sparta, NJ 300° radials.

* * * * *

V-145 [Removed]

* * * * *

V-196 [Removed]

* * * * *

V-203 [Removed]

* * * * *

V-229 [Amended]

From Patuxent, MD; INT Patuxent 036° and Atlantic City, NJ, 236° radials; Atlantic City; INT Atlantic City 055° and Colts Neck, NJ, 181° radials; INT Colts Neck 181° and Kennedy, NY, 209° radials; Kennedy; INT Kennedy 040° and Calverton, NY, 261° radials; INT Calverton 261° and Kennedy 053° radials; INT Kennedy 053° and Bridgeport, CT, 200° radials; Bridgeport; to Hartford, CT; The airspace within R-5002B is excluded during times of use. The airspace below 2,000 feet MSL outside the United States is excluded.

* * * * *

V-249 [Amended]

From Robbinsville, NJ; INT Robbinsville 320° and Solberg, NJ, 161° radials; Solberg; Sparta, NJ; INT Sparta 018° and Delancey, NY, 119° radials; to DeLancey.

* * * * *

V-273 [Amended]

From INT Huguenot, NY, 134° and Solberg, NJ, 044° radials; Huguenot; INT Huguenot 303° and Hancock, NY, 148° radials; to Hancock;

* * * * *

V-282 [Removed]

* * * * *

V-318 [Removed]

* * * * *

V-322 [Removed]

* * * * *

V-352 [Removed]

* * * * *

V-428 [Removed]

* * * * *

V-471 [Amended]

From Bangor, ME; to Millinocket, ME.

* * * * *

V-490 [Removed]

* * * * *

V-542 [Removed]

* * * * *

Paragraph 6011 United States Area Navigation Routes.

* * * * *

T-295 LOUIE, MD to Presque Isle, ME (PQI) [Amended]
LOUIE, MD | WP | (Lat. 38°36′44.33″ N, long. 076°18′04.37″ W)
BAABS, MD | WP | (Lat. 39°19′51.39″ N, long. 076°24′40.87″ W)
Lancaster, PA (LRP) | VOR/DME | (Lat. 40°07′11.91″ N, long. 076°17′28.66″ W)
Wilkes-Barre, PA (LVZ) | VORTAC | (Lat. 41°16′22.08″ N, long. 075°41′22.08″ W)
LAAYK, PA | WP | (Lat. 41°28′32.64″ N, long. 075°28′57.31″ W)
SAGES, NY | WP | (Lat. 42°02′46.33″ N, long. 074°19′10.33″ W)
SASHA, MA | WP | (Lat. 42°07′58.70″ N, long. 073°08′55.39″ W)
KEYNN, NH | WP | (Lat. 42°47′39.99″ N, long. 072°17′30.35″ W)
Concord, NH (CON) | VOR/DME | (Lat. 43°13′11.23″ N, long. 071°34′31.63″ W)
Kennebunk, ME (ENE) | VOR/DME | (Lat. 43°25′32.42″ N, long. 070°36′48.69″ W)
BRNNS, ME | WP | (Lat. 43°54′08.64″ N, long. 069°56′42.81″ W)
Bangor, ME (BGR) | VORTAC | (Lat. 44°50′30.46″ N, long. 068°52′26.28″ W)
LAUDS, ME | FIX | (Lat. 45°25′10.13″ N, long. 068°12′26.96″ W)
HULTN, ME | WP | (Lat. 46°02′22.29″ N, long. 067°50′02.06″ W)
Presque Isle, ME (PQI) | VOR/DME | (Lat. 46°46′27.07″ N, long. 068°05′40.37″ W)
* * * * * * *
T-314 Barnes, MA (BAF) to Kennebunk, ME (ENE) [New]
Barnes, MA (BAF) | VORTAC | (Lat. 42°09′43.05″ N, long. 072°42′58.32″ W)
FAIDS, MA | FIX | (Lat. 42°17′00.75″ N, long. 072°30′33.91″ W)
PUDGY, MA | FIX | (Lat. 42°19′38.52″ N, long. 072°26′04.25″ W)
LAPEL, MA | FIX | (Lat. 42°27′40.92″ N, long. 072°12′15.79″ W)
Gardner, MA (GDM) | VOR/DME | (Lat. 42°32′45.31″ N, long. 072°03′29.48″ W)
JOHNZ, NH | FIX | (Lat. 42°43′22.87″ N, long. 071°40′55.80″ W)
MANCH, NH | WP | (Lat. 42°52′12.03″ N, long. 071°22′06.54″ W)
KHRIS, NH | FIX | (Lat. 42°57′01.09″ N, long. 071°15′35.56″ W)
RAYMY, NH | FIX | (Lat. 43°03′36.89″ N, long. 071°06′42.16″ W)
YUKES, ME | FIX | (Lat. 43°16′47.89″ N, long. 070°48′47.74″ W)
Kennebunk, ME (ENE) | VOR/DME | (Lat. 43°25′32.42″ N, long. 070°36′48.69″ W)
T-315 Hartford, CT (HFD) to Burlington, VT (BTV) [New]
Hartford, CT (HFD) | VOR/DME | (Lat. 41°38′27.98″ N, long. 072°32′50.70″ W)
DVANY, CT | WP | (Lat. 41°51′44.56″ N, long. 072°18′11.25″ W)
DARTH, CT | WP | (Lat. 41°56′55.86″ N, long. 072°16′20.80″ W)
WITNY, MA | WP | (Lat. 42°02′57.82″ N, long. 072°14′11.96″ W)
SPENO, MA | WP | (Lat. 42°16′48.55″ N, long. 072°09′14.70″ W)
Gardner, MA (GDM) | VOR/DME | (Lat. 42°32′45.31″ N, long. 072°03′29.48″ W)
KEYNN, NH | WP | (Lat. 42°47′39.99″ N, long. 072°17′30.35″ W)
JAMMA, VT | WP | (Lat. 43°16′11.87″ N, long. 072°35′10.63″ W)
EBERT, VT | FIX | (Lat. 43°32′58.08″ N, long. 072°45′42.45″ W)
MUDDI, VT | WP | (Lat. 43°44′39.85″ N, long. 072°51′26.92″ W)
Burlington, VT (BTV) | VOR/DME | (Lat. 44°23′49.58″ N, long. 073°10′57.48″ W)
T-316 LAMMS, NY to MANCH, NH [New]
LAMMS, NY | WP | (Lat. 43°01′35.30″ N, long. 075°09′51.50″ W)
ROOMS, NY | WP | (Lat. 43°01′09.84″ N, long. 074°35′03.27″ W)
PAYGE, NY | WP | (Lat. 43°00′50.48″ N, long. 074°15′12.76″ W)
GALWA, NY | FIX | (Lat. 43°00′34.00″ N, long. 074°00′34.51″ W)
ETZUN, NY | FIX | (Lat. 42°59′55.04″ N, long. 073°31′03.83″ W)
Cambridge, NY (CAM) | VOR/DME | (Lat. 42°59′39.44″ N, long. 073°20′38.47″ W)
DORIS, VT | WP | (Lat. 42°58′42.88″ N, long. 073°03′51.57″ W)
BRATS, VT | FIX | (Lat. 42°57′19.89″ N, long. 072°40′27.73″ W)
STRUM, NH | WP | (Lat. 42°55′51.18″ N, long. 072°16′48.88″ W)
DUBIN, NH | FIX | (Lat. 42°54′43.15″ N, long. 071°59′35.41″ W)
MUGGY, NH | WP | (Lat. 42°53′44.91″ N, long. 071°45′17.41″ W)
BASUU, NH | FIX | (Lat. 42°53′17.86″ N, long. 071°38′48.69″ W)
MANCH, NH | WP | (Lat. 42°52′12.03″ N, long. 071°22′06.54″ W)
* * * * * * *
T-391 Hancock, NY (HNK) to SSENA, NY [Amended]
Hancock, NY (HNK) | VOR/DME | (Lat. 42°03′47.01″ N, long. 075°18′58.62″ W)
OXFOR, NY | FIX | (Lat. 42°22′03.81″ N, long. 075°31′44.03″ W)
PITCH, NY | FIX | (Lat. 42°40′36.94″ N, long. 075°44′49.58″ W)
GTOWN, NY | WP | (Lat. 42°47′20.81″ N, long. 075°49′36.52″ W)
POMPY, NY | FIX | (Lat. 42°55′48.00″ N, long. 075°58′10.10″ W)
FATUP, NY | FIX | (Lat. 43°01′31.89″ N, long. 076°03′59.74″ W)
Syracuse, NY (SYR) | VORTAC | (Lat. 43°09′37.87″ N, long. 076°12′16.41″ W)
PAGER, NY | FIX | (Lat. 43°25′25.64″ N, long. 076°09′30.34″ W)
BRUIN, NY | FIX | (Lat. 43°39′59.04″ N, long. 076°06′55.97″ W)
Watertown, NY (ART) | VORTAC | (Lat. 43°57′07.67″ N, long. 076°03′52.66″ W)
WILRD, NY | FIX | (Lat. 44°15′43.61″ N, long. 075°47′03.12″ W)
LETUS, NY | FIX | (Lat. 44°37′22.34″ N, long. 075°27′11.44″ W)
SSENA, NY | WP | (Lat. 44°54′51.43″ N, long. 074°43′21.31″ W)

* * * * *

Paragraph 2007 Canadian Area Navigation Routes.

* * * * *

Q-806 VINDI, ME to VIGDU, ME [Amended]
VINDI, ME | WP | (Lat. 45°40′16.23″ N, long. 070°31′10.90″ W)
Millinocket, ME (MLT) | VOR/DME | (Lat. 45°35′12.15″ N, long. 068°30′55.67″ W)
CANME, ME | WP | (Lat. 45°29′16.29″ N, long. 067°37′16.80″ W)
VIGDU, ME | WP | (Lat. 45°28′25.25″ N, long. 067°29′43.86″ W)
* * * * * * *
Q-844 Syracuse, NY (SYR) to VIBRU, NY [Amended]
Syracuse, NY (SYR) | VORTAC | (Lat. 49°09′37.87″ N, long. 076°12′16.41″ W)
VIBRU, NY | WP | (Lat. 44°20′21.30″ N, long. 076°01′19.96″ W)
* * * * * * *
Q-864 EBGIX, ME to TUGUB, ME [New]
EBGIX, ME | WP | (Lat. 45°43′32.67″ N, long. 070°23′50.92″ W)
TUGUB, ME | WP | (Lat. 45°58′42.08″ N, long. 067°46′52.21″ W)

* * * * *

Paragraph 6013 Canadian Area Navigation Routes.

* * * * *

T-608 HOCKE, MI to YANTC, CT [Amended]
HOCKE, MI | WP | (Lat. 43°15′43.38″ N, long. 082°42′38.27″ W)
KATNO, Canada | WP | (Lat. 43°10′34.00″ N, long. 082°19′32.00″ W)
UKNIX, NY | WP | (Lat. 42°56′44.51″ N, long. 078°55′05.60″ W)
WOZEE, NY | WP | (Lat. 42°56′01.65″ N, long. 078°44′19.64″ W)
CLUNG, NY | WP | (Lat. 43°03′17.17″ N, long. 078°00′13.38″ W)
MONCK, NY | WP | (Lat. 43°04′33.36″ N, long. 077°53′36.67″ W)
Rochester, NY (ROC) | VOR/DME | (Lat. 43°07′04.65″ N, long. 077°40′22.06″ W)
LORTH, NY | FIX | (Lat. 43°07′47.93″ N, long. 077°19′05.32″ W)
MAGEN, NY | WP | (Lat. 43°08′03.28″ N, long. 077°11′00.84″ W)
KONDO, NY | WP | (Lat. 43°08′48.99″ N, long. 076°45′01.72″ W)
WIFFY, NY | WP | (Lat. 43°09′07.96″ N, long. 076°33′00.08″ W)
Syracuse, NY (SYR) | VORTAC | (Lat. 43°09′37.87″ N, long. 076°12′16.41″ W)
STODA, NY | WP | (Lat. 43°07′00.20″ N, long. 075°51′21.23″ W)
VASTS, NY | FIX | (Lat. 43°04′34.62″ N, long. 075°32′29.89″ W)
LAMMS, NY | WP | (Lat. 43°01′35.30″ N, long. 075°09′51.50″ W)
NORSE, NY | WP | (Lat. 42°57′37.88″ N, long. 074°50′03.72″ W)
MARIA, NY | WP | (Lat. 42°50′02.76″ N, long. 074°13′00.50″ W)
Albany, NY (ALB) | VORTAC | (Lat. 42°44′50.20″ N, long. 073°48′11.47″ W)
WARUV, NY | WP | (Lat. 42°45′52.14″ N, long. 073°34′41.41″ W)
GRAVE, NY | WP | (Lat. 42°46′47.34″ N, long. 073°22′20.91″ W)
GRISY, MA | WP | (Lat. 42°41′46.40″ N, long. 072°53′30.14″ W)
WARIC, MA | WP | (Lat. 42°37′42.00″ N, long. 072°30′37.72″ W)
HURLY, MA | FIX | (Lat. 42°35′19.49″ N, long. 072°17′30.40″ W)
Gardner, MA (GDM) | VOR/DME | (Lat. 42°32′45.31″ N, long. 072°03′29.48″ W)
GRAYM, MA | WP | (Lat. 42°06′04.27″ N, long. 072°01′53.49″ W)
BLATT, CT | WP | (Lat. 41°49′37.10″ N, long. 072°00′54.94″ W)
MOGUL, CT | WP | (Lat. 41°43′22.76″ N, long. 072°00′32.87″ W)
YANTC, CT | WP | (Lat. 41°33′22.81″ N, long. 071°59′56.95″ W)
Excluding the airspace within Canada.
* * * * * * *
T-634 Syracuse, NY (SYR) to VIBRU, NY [New]
Syracuse, NY (SYR) | VORTAC | (Lat. 43°09′37.87″ N, long. 076°12′16.41″ W)
PAGER, NY | WP | (Lat. 43°25′25.64″ N, long. 076°09′30.34″ W)
BRUIN, NY | WP | (Lat. 43°39′59.04″ N, long. 076°06′55.97″ W)
Watertown, NY (ART) | VORTAC | (Lat. 43°57′07.67″ N, long. 076°03′52.66″ W)
VIBRU, NY | WP | (Lat. 44°20′21.30″ N, long. 076°01′19.96″ W)
* * * * * * *
T-662 DEPRI, ME to HULTN, ME [New]
DEPRI, ME | WP | (Lat. 45°57′13.32″ N, long. 070°15′23.83″ W)
KATAH, ME | WP | (Lat. 46°05′00.00″ N, long. 069°00′00.00″ W)
HULTN, ME | WP | (Lat. 46°02′22.29″ N, long. 067°50′02.06″ W)
* * * * * * *
T-698 EBGIX, ME to ACTON, ME [New]
EBGIX, ME | WP | (Lat. 45°43′32.67″ N, long. 070°23′50.92″ W)
HULTN, ME | WP | (Lat. 46°02′22.29″ N, long. 067°50′02.06″ W)
ACTON, ME | WP | (Lat. 46°02′33.81″ N, long. 067°46′51.65″ W)
* * * * * * *
T-705 DANZI, NY to MUTNA, NY [Amended]
DANZI, NY | WP | (Lat. 42°10′41.86″ N, long. 074°57′24.19″ W)
CODDI, NY | FIX | (Lat. 42°22′52.15″ N, long. 075°00′21.84″ W)
MILID, NY | FIX | (Lat. 42°30′25.88″ N, long. 075°02′12.28″ W)
LAMMS, NY | WP | (Lat. 43°01′35.30″ N, long. 075°09′51.50″ W)
USICI, NY | WP | (Lat. 43°11′23.04″ N, long. 075°03′06.15″ W)
GACKE, NY | WP | (Lat. 43°19′11.10″ N, long. 074°57′40.88″ W)
BECKS, NY | WP | (Lat. 43°32′56.63″ N, long. 074°48′03.47″ W)
SMAIR, NY | WP | (Lat. 44°03′32.47″ N, long. 074°26′20.99″ W)
FOSYU, NY | WP | (Lat. 44°12′25.39″ N, long. 074°19′58.15″ W)
SRNAC, NY | WP | (Lat. 44°23′05.00″ N, long. 074°12′16.11″ W)
UUBER, NY | WP | (Lat. 44°28′00.25″ N, long. 074°01′10.54″ W)
RIGID, NY | WP | (Lat. 44°35′19.53″ N, long. 073°44′34.07″ W)
PBERG, NY | WP | (Lat. 44°42′06.25″ N, long. 073°31′22.18″ W)
LATTS, NY | WP | (Lat. 44°51′29.78″ N, long. 073°32′29.26″ W)
MUTNA, NY | WP | (Lat. 45°00′20.84″ N, long. 073°33′27.65″ W)
* * * * * * *
T-781 Flint, MI (FNT) to HULTN, ME [Amended]
Flint, MI (FNT) | VORTAC | (Lat. 42°58′00.38″ N, long. 083°44′49.08″ W)
KATTY, MI | WP | (Lat. 42°57′50.59″ N, long. 083°30′50.76″ W)
HANKY, MI | WP | (Lat. 42°57′43.51″ N, long. 083°21′59.93″ W)
ADRIE, MI | WP | (Lat. 42°57′29.80″ N, long. 083°06′49.84″ W)
MARGN, MI | WP | (Lat. 42°56′59.18″ N, long. 082°38′49.14″ W)
BLUEZ, MI | WP | (Lat. 42°56′49.98″ N, long. 082°31′36.44″ W)
AXOBU, Canada | WP | (Lat. 42°56′39.51″ N, long. 082°23′42.31″ W)
PINTE, ME | FIX | (Lat. 46°26′44.89″ N, long. 070°03′01.26″ W)
HULTN, ME | WP | (Lat. 46°02′22.29″ N, long. 067°50′02.06″ W)
Excluding the airspace within Canada.

* * * * *

Issued in Washington, DC, on April 8, 2021.
George Gonzalez,
Acting Manager, Rules and Regulations Group.

[FR Doc. 2021-07529 Filed 4-12-21; 8:45 am]

BILLING CODE 4910-13-P